DEPARTMENT OF ENERGY

Federal Energy Regulatory Commission

Combined Notice of Filings #1

Take notice that the Commission received the following electric corporate filings:

Docket Numbers: EC17-86-000.

Applicants: Green Mountain Power Corporation, Vermont Transco LLC.

Description: Supplement to March 1, 2017 Application for Authorization Under Section 203 of the Federal Power Act and Request for Shortened Comment Period of Green Mountain Power Corporation, et. al.

Filed Date: 4/11/17.

Accession Number: 20170411-5255.

Comments Due: 5 p.m. ET 4/21/17.

Docket Numbers: EC17-96-000.

Applicants: Otter Tail Power Company.

Description: Supplement to March 16, 2017 Section 203 Application (Exhibit N Accounting Entries) of Otter Tail Power Company.

Filed Date: 4/11/17.

Accession Number: 20170411-5200.

Comments Due: 5 p.m. ET 5/2/17.

Take notice that the Commission received the following electric rate filings:

Docket Numbers: ER17-1409-000.

Applicants: Public Service Company of New Mexico.

Description: § 205(d) Rate Filing: Amended PETA between PNM and TEP to be effective 6/11/2017.

Filed Date: 4/12/17.

Accession Number: 20170412-5097.

Comments Due: 5 p.m. ET 5/3/17.

Docket Numbers: ER17-1410-000.

Applicants: Southern California Edison Company.

Description: § 205(d) Rate Filing: Letter Agreement Sunshine Valley Solar, LLC to be effective 4/10/2017.

Filed Date: 4/12/17.

Accession Number: 20170412-5225.

Comments Due: 5 p.m. ET 5/3/17.

Docket Numbers: ER17-1411-000.

Applicants: Midcontinent Independent System Operator, Inc.

Description: § 205(d) Rate Filing: 2017-04-12_SA 3003 CMS-MISO E-NRIS SA (J440) to be effective 4/13/2017.

Filed Date: 4/12/17.

Accession Number: 20170412-5240.

Comments Due: 5 p.m. ET 5/3/17.

Docket Numbers: ER17-1412-000.

Applicants: ATC Management Inc., ATC Holdco LLC and ATC Development Manager Inc.

Description: Request for Waiver of Affiliate Transaction Pricing Rules of ATC Management Inc., et al.

Filed Date: 4/12/17.

Accession Number: 20170412-5248.

Comments Due: 5 p.m. ET 5/3/17.

Take notice that the Commission received the following qualifying facility filings:

Docket Numbers: QF17-853-000.

Applicants: Trustees of Tufts College.

Description: Form 556 of Trustees of Tufts College.

Filed Date: 4/11/17.

Accession Number: 20170411-5253.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2017.
Kimberly D. Bose,
Secretary.

[FR Doc. 2017-07999 Filed 4-19-17; 8:45 am]

BILLING CODE 6717-01-P